DEPARTMENT OF THE INTERIOR

National Park Service

[NPS-WASO-NAGPRA-15827; PPWOCRADN0-PCU00RP14.R50000]

Notice of Inventory Completion: Oregon State University, Department of Anthropology, Corvallis, OR

AGENCY: National Park Service, Interior.

ACTION: Notice.

SUMMARY: The Oregon State University Department of Anthropology has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Oregon State University Department of Anthropology. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Oregon State University Department of Anthropology at the address in this notice by July 24, 2014.

ADDRESSES: Dr. Dave Brauner, Oregon State University, Department of Anthropology, 238 Waldo Hall, Corvallis, OR 97333, telephone (541) 737-3850.

SUPPLEMENTARY INFORMATION: Notice is here given in accordance with the Native American Graves Protection and Repatriation Act (NAGPRA), 25 U.S.C. 3003, of the completion of an inventory of human remains under the control of the Oregon State University Department of Anthropology, Corvallis, OR. The human remains were removed from Casey, Christian, and Scott Counties, KY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Oregon State University Department of Anthropology professional staff in consultation with representatives of the Shawnee Tribe and United Keetoowah Band of Cherokee Indians in Oklahoma. The Miami Tribe of Oklahoma has been contacted, but has deferred to the tribes in this notice.

History and Description of the Remains

Between 1930 and 1971, human remains representing, at minimum, five individuals were removed from the Dulins Creek site (Ch 19), in Christian County, KY, by Georg Karl Neumann, a physical anthropologist working out of Indiana University, Bloomington. In 1976, the Oregon State University's Department of Anthropology acquired the Neumann Collection from Georg Neumann's son. These individuals are labeled with the identification of “Ch.” No known individuals were identified. No associated funerary objects are present.

Dr. Neumann and a doctoral student, Louise Robbins, collected human remains from several archeological sites during their research projects with a focus on archeological mound sites, skeletal characteristics of Native American races, and general human physical variation and skeletal morphology. The culmination of this research is published as “Archaeology and Race in the American Indian,” in the 1952 Yearbook of Physical Anthropology, Vol. 8, and in Louise Robbins' doctoral dissertation, “The Identification of the Prehistoric Shawnee Indians: The Description of the Populations of the Fort Ancient Aspect” (Indiana University, 1968). Collection records accompanying the human remains document Dr. Neumann's work with survey archeologists in Kentucky, Ohio, and Tennessee. The records state that Dr. Neumann was collecting human remains in Christian County, western Kentucky, and in the Cumberland River Basin. Neumann's site documents include records for burial sites along Dulins Creek (Ch 19) in Kentucky.

Between 1930 and 1971, human remains representing, at minimum, eight individuals were removed from an unknown site in Casey County, KY, by Dr. Neumann. In 1976, the Oregon State University Department of Anthropology acquired the Neumann Collection from Georg Neumann's son. These individuals are labeled with the identification of “CS.” Representatives of the Kentucky Archaeological Survey confirm that “CS” is the Smithsonian county abbreviation for Casey County. No known individuals were identified. No associated funerary objects are present.

The human remains are reasonably believed to be from the above described research projects of Dr. Neumann and Louise Robbins. In addition to the published research described above, the records also include notes for a talk on Native American archeological periods in Kentucky. The notes list specific culture periods found in “Western Kentucky, headwaters of the Green River and Eastern Mountains area” (Robbins 1971), one of which is the Fort Ancient culture period. The headwaters of the Green River flow through Casey County, KY.

Between 1930 and 1971, human remains representing, at minimum, one individual were removed from an unknown site in Scott County, KY, by Dr. Neumann. In 1976, the Oregon State University Department of Anthropology acquired the Neumann Collection from Georg Neumann's son. These individuals are labeled with the identification of “SC.” Neumann consistently labeled human remains with Smithsonian trinomial abbreviations; representatives of the Kentucky Archaeological Survey confirm that Scott County is abbreviated as “SC.” No known individual was identified. No associated funerary objects are present.

Representatives of the Kentucky Archaeological Survey confirm that mound sites are common along rivers in Kentucky, including Fort Ancient culture period mounds that Neumann was known to excavate. Louise Robbins' doctoral dissertation (Robbins 1968) includes a map of the distribution of the Madisonville Focus of the Fort Ancient archeological cultural assemblage, and this area includes Scott County, KY. Robbins' dissertation further explains the relationship between Neumann and the Fort Ancient assemblage excavations, placing Neumann at the excavations with the primary responsibility for the human remains data.

It is reasonably believed the individuals in this notice are all from the Fort Ancient culture period (circa 1100 to 1650 A.D.). The three Federally recognized Shawnee tribes—the Absentee-Shawnee Tribe of Indians of Oklahoma, the Eastern Shawnee Tribe of Oklahoma, and the Shawnee Tribe—were originally united as one Shawnee Nation, consisting of nomadic groups that traveled the area east of the Mississippi, including the area now known as Kentucky, before and during the initial period of contact. The Treaty of Holston in 1791 between the Cherokee Nation and the United States Government states that the territory they would restrict themselves to was bordered by the top of Cumberland Mountain “thence in a direct line to the Cumberland river . . . thence down the Cumberland river to a point from which a south west line will strike the ridge which divides waters of Cumberland from those of Duck river . . .”; thus indicating the Cherokee presence in the areas of Kentucky from which Neumann excavated these Fort Ancient individuals. Today, the Cherokee are represented by the Cherokee Nation; Eastern Band of Cherokee Indians; and United Keetoowah Band of Cherokee Indians in Oklahoma

Determinations Made By the Oregon State University Department of Anthropology

Officials of the Oregon State University, Department of Anthropology have determined that:

• Pursuant to 25 U.S.C. 3001(9), the human remains described in this notice represent the physical remains of 14 individuals of Native American ancestry.

• Pursuant to 25 U.S.C. 3001(2), there is a relationship of shared group identity that can be reasonably traced between the Native American human remains and the Absentee-Shawnee Tribe of Indians of Oklahoma; Cherokee Nation; Eastern Band of Cherokee Indians; Eastern Shawnee Tribe of Oklahoma; Shawnee Tribe; and United Keetoowah Band of Cherokee Indians in Oklahoma.

Additional Requestors and Disposition

Lineal descendants or representatives of any Indian tribe or Native Hawaiian organization not identified in this notice that wish to request transfer of control of these human remains should submit a written request with information in support of the request to Dr. Dave Brauner, Oregon State University, Department of Anthropology, 238 Waldo Hall, Corvallis, OR 97333, telephone (541) 737-3850, by July 24, 2014. After that date, if no additional requestors have come forward, transfer of control of the human remains to the Absentee-Shawnee Tribe of Indians of Oklahoma; Cherokee Nation; Eastern Band of Cherokee Indians; Eastern Shawnee Tribe of Oklahoma; Shawnee Tribe; and United Keetoowah Band of Cherokee Indians in Oklahoma may proceed.

The Oregon State University Department of Anthropology is responsible for notifying the Absentee-Shawnee Tribe of Indians of Oklahoma; Cherokee Nation; Eastern Band of Cherokee Indians; Eastern Shawnee Tribe of Oklahoma; Miami Tribe of Oklahoma; Shawnee Tribe; and United Keetoowah Band of Cherokee Indians in Oklahoma that this notice has been published.

Dated: May 15, 2014.
Sherry Hutt,
Manager, National NAGPRA Program.

[FR Doc. 2014-14742 Filed 6-23-14; 8:45 am]

BILLING CODE 4312-50-P